DEPARTMENT OF AGRICULTURE

Food Safety and Inspection Service

[Docket No. FSIS-2008-0030]

National Advisory Committee on Microbiological Criteria for Foods

AGENCY: Food Safety and Inspection Service, USDA.

ACTION: Notice of public meeting.

SUMMARY: This notice announces that the National Advisory Committee on Microbiological Criteria for Foods (NACMCF) will hold public meetings of the full Committee and Subcommittees on September 22-26, 2008. The Committee will discuss: (1) Parameters for inoculated-pack challenge study protocols, and (2) Determination of the most appropriate technologies for the Food Safety and Inspection Service (FSIS) to adopt in performing routine and baseline microbiological analyses.

DATES: The full Committee will hold an open meeting on Friday, September 26, 2008, from 9 a.m. to 1 p.m. The Subcommittee on parameters for inoculated-pack challenge study protocols will hold open meetings on Monday, September 22, and Tuesday, September 23, 2008, from 8:30 a.m. to 5 p.m. The Subcommittee on determination of the most appropriate technologies for the FSIS to adopt in performing routine and baseline microbiological analyses will hold open meetings on Wednesday, September 24, and Thursday, September 25, 2008, from 8:30 a.m. to 5 p.m.

ADDRESSES: The September 22-25, 2008, Subcommittee meetings will be held at the Aerospace Center, 901 D Street, SW., Rooms 369-371, Washington, DC 20024. The September 26, 2008, full Committee meeting will be held in the conference room at the south end of the U.S. Department of Agriculture (USDA) cafeteria located in the South Building, 1400 Independence Avenue, SW., Washington, DC 20250. All documents related to the full Committee meeting will be available for public inspection in the FSIS Docket Room, U.S. Department of Agriculture, 1400 Independence Avenue, SW., Room 2534 South Building, Washington, DC 20250, between 8:30 a.m. and 4:30 p.m., Monday through Friday, as soon as they become available. The NACMCF documents will also be available on the Internet at http://www.fsis.usda.gov/regulations/2008_Notices_Index/.

FSIS will finalize an agenda on or before the meeting dates and post it on the FSIS Web page at http://www.fsis.usda.gov/News/Meetings_&_Events/.

Please note that the meeting agenda is subject to change due to the time required for Committee discussions; thus, sessions could start or end earlier or later than anticipated. Please plan accordingly if you would like to attend a particular session or participate in a public comment period.

Also, the official transcript of the September 26, 2008, full Committee meeting, when it becomes available, will be kept in the FSIS Docket Room at the above address and will also be posted on http://www.fsis.usda.gov/About/NACMCF_Meetings/.

The mailing address for the contact person is: Karen Thomas-Sharp, U.S. Department of Agriculture, FSIS, Office of Public Health Science, 1400 Independence Avenue, SW., 333 Aerospace Center, Washington, DC 20250-3766.

FOR FURTHER INFORMATION CONTACT: Persons interested in making a presentation, submitting technical papers, or providing comments at the September 26, plenary session should contact Karen Thomas-Sharp, phone (202) 690-6620, fax (202) 690-6334, e-mail Karen.thomas-sharp@fsis.usda.gov, or at the mailing address above. Persons requiring a sign language interpreter or other special accommodations should notify Mrs. Thomas-Sharp by September 17, 2008.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available for viewing on the FSIS Internet Web page at http://www.fsis.usda.gov/About/NACMCF_Charter/.

The NACMCF provides scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the Centers for Disease Control and Prevention and the Departments of Commerce and Defense.

Dr. H. Scott Hurd, Deputy Under Secretary for Food Safety, U.S. Department of Agriculture, is the Committee Chair; Dr. Stephen Sundlof, Director of the Food and Drug Administration's Center for Food Safety and Applied Nutrition (CFSAN), is the Vice-Chair; and Gerri Ransom, FSIS, is the Executive Secretary.

• At the subcommittee meetings the week of September 22-25, 2008 the groups will discuss:

• Parameters for inoculated-pack challenge study protocols, and

• Determination of the most appropriate technologies for the FSIS to adopt in performing routine and baseline microbiological analyses.

Documents Reviewed by NACMCF

FSIS intends to make available to the public all materials that are reviewed and considered by NACMCF regarding its deliberations. Generally, these materials will be made available as soon as possible after the full Committee meeting. Further, FSIS intends to make these materials available in electronic format on the FSIS Web page, as well as in hard copy format in the FSIS Docket Room. Often, an attempt is made to make the materials available at the start of the full Committee meeting when sufficient time is allowed in advance to do so.

Disclaimer: NACMCF documents and comments posted on the FSIS Web site are electronic conversions from a variety of source formats. In some cases, document conversion may result in character translation or formatting errors. The original document is the official, legal copy.

In order to meet the electronic and information technology accessibility standards in Section 508 of the Rehabilitation Act, NACMCF may add alternate text descriptors for non-text elements (graphs, charts, tables, multimedia, etc.). These modifications only affect the online copies of the documents.

Copyrighted documents will not be posted on the FSIS Web site, but will be available for inspection in the FSIS Docket Room.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and they have the option to password protect their accounts.

Done at Washington, DC on August 19, 2008.
Alfred V. Almanza,
Administrator.

[FR Doc. E8-19540 Filed 8-21-08; 8:45 am]

BILLING CODE 3410-DM-P